INTERNATIONAL TRADE COMMISSION

[Inv. No. 337-TA-732]

In the Matter of: Certain Devices Having Elastomeric Gel and Components Thereof; Notice of Investigation

AGENCY: U.S. International Trade Commission.

ACTION: Institution of investigation pursuant to 19 U.S.C. 1337.

SUMMARY: Notice is hereby given that a complaint was filed with the U.S. International Trade Commission on June 30, 2010, under section 337 of the Tariff Act of 1930, as amended, 19 U.S.C. 1337, on behalf of Interactive Life Forms, LLC of Austin, Texas. A letter supplementing the complaint was filed on July 22, 2010. The complaint, as supplemented, alleges violations of section 337 based upon the importation into the United States, the sale for importation, and the sale within the United States after importation of certain devices having elastomeric gel and components thereof by reason of infringement of certain claims of U.S. Patent No. 5,782,818 (“the `818 patent”) and U.S. Patent No. 5,807,360 (“the `360 patent”). The complaint further alleges that an industry in the United States exists as required by subsection (a)(2) of section 337.

The complainant requests that the Commission institute an investigation and, after the investigation, issue an exclusion order and cease and desist orders.

ADDRESSES: The complaint and supplement, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Erin D.E. Joffre, Esq., Office of Unfair Import Investigations, U.S. International Trade Commission, telephone (202) 205-2550.

Authority: The authority for institution of this investigation is contained in section 337 of the Tariff Act of 1930, as amended, and in section 210.10 of the Commission's Rules of Practice and Procedure, 19 CFR 210.10 (2010).

Scope of Investigation: Having considered the complaint, the U.S. International Trade Commission, on July 29, 2010, Ordered That—

(1) Pursuant to subsection (b) of section 337 of the Tariff Act of 1930, as amended, an investigation be instituted to determine whether there is a violation of subsection (a)(1)(B) of section 337 in the importation into the United States, the sale for importation, or the sale within the United States after importation of certain devices having elastomeric gel and components thereof that infringe one or more of claims 1-7 of the `818 patent and claims 1-12 of the `360 patent, and whether an industry in the United States exists as required by subsection (a)(2) of section 337;

(2) For the purpose of the investigation so instituted, the following are hereby named as parties upon which this notice of investigation shall be served:

(a) The complainant is:

Interactive Life Forms, LLC, 4401 Freidrich Lane, Bldg. 4, Ste. 400, Austin, TX 78744.

(b) The respondents are the following entities alleged to be in violation of section 337, and are the parties upon which the complaint is to be served:

California Exotic Novelties, Inc., 14235 Ramona Avenue, Chino, CA 91710.

Direct Advantage Values Enterprise, Inc., 1098 San Mateo Avenue, Unit 7, South San Francisco, CA 94080.

Nanma Manufacturing Co., Limited, 60 Wing Tai Road, Chai Wan, Hong Kong Island, Hong Kong.

Shenzhen Shaki Industrial Co., Ltd., F2B1-2/F, Min'ai Industrial Park, Zikengjing Village, Guanlan Town, Bao'an District, Shenzhen, Guangdong, China.

Pipedream Products, Inc., 21350 Lassen Street, Chatsworth, CA 91311.

Tenga Co., Ltd., 2-58-10, Chuo, Nakano-Ku, Tokyo 164-0011, Japan.

Vast Resources, Inc. d/b/a Topco Sales, 9410 De Soto Avenue, Chatsworth, CA 91311.

Convergence Inc., 8842 Evanview Drive, Los Angeles, CA 90067.

E.T.C., Inc. d/b/a Eldorado Trading, Company, Inc., 2325 W. Midway Boulevard, Broomfield, CO 80020.

Gigglesworld Corporation, 22 Bill Horton Way, Wappingers Falls, NY 12590.

Honey's Place, Inc., 640 Glenoaks Boulevard, San Fernando, CA 91340.

Joe Enterprises, Inc., 4848 South 38th Street, Phoenix, AZ 85040.

Liberator, Inc., 202 N. Carson Street, Carson City, NV 89701.

Nalpac Enterprises, Ltd. d/b/a/Nalpac, Ltd., 1111 E 8 Mile Road, Ferndale, MI 48220.

Satistec, LLC, 3960 Howard Hughes Parkway, Ste. 500, Las Vegas, NV 89169.

Universal Distributor, 2110 Centre Pointe Parkway, Santa Clarita, CA 91350.

Williams Trading Co., Inc., 9250 Commerce Highway, Pennsauken, NJ 08110.

W.T.F.N. Inc. d/b/a Holiday Products, 20950 Lassen Street, Chatsworth, CA 91311.

Barnaby Ltd., LLC, 934 Howard Street, San Francisco, CA 94103.

L.F.P., Inc., 8484 Wilshire Boulevard, Ste. 900, Beverly Hills, CA 90211.

LFP Internet Group, LLC, 8484 Wilshire Boulevard, Ste. 900, Beverly Hills, CA 90211.

PHE, Inc., 302 Meadowland Drive, Hillsborough, NC 27278.

Polydigitech Inc., 721 Limerick Lane, Apt. 2B, Schaumburg, IL 60193.

Sawhorse Enterprises, Inc., 1061 Sneath Lane, San Bruno, CA 94066.

TEG, L.L.C., 5601 Granite Parkway, Ste. 295, Plano, TX 75024.

Web Merchants Inc., 1095 Cranbury Road, Ste. 7, Jamesburg, NJ 08831.

(c) The Commission investigative attorney, party to this investigation, is Erin D.E. Joffre, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: July 29, 2010.
By order of the Commission.
Marilyn R. Abbott,
Secretary to the Commission.

[FR Doc. 2010-19105 Filed 8-3-10; 8:45 am]

BILLING CODE 7020-02-P